DEPARTMENT OF HEALTH AND HUMAN SERVICES

National Institutes of Health

National Library of Medicine; Amended Notice of Meeting

Notice is hereby given of a change in the meeting of the Biomedical Library and Informatics Review Committee, June 11, 2009, 8 a.m. to June 12, 2009, 2 p.m., National Library of Medicine, Building 38, Board Room, 2nd Floor, 8600 Rockville Pike, Bethesda, MD 20892 which was published in the Federal Register on March 27, 2009, 74 FR 13446.

The meeting dates were previously scheduled for June 11-12, 2009, and the meeting will now will be held on June 11, 2009. The meeting is closed to the public.

Dated: May 5, 2009.
Jennifer Spaeth,
Director, Office of Federal Advisory Committee Policy.

[FR Doc. E9-11003 Filed 5-12-09; 8:45 am]

BILLING CODE 4140-01-M